DEPARTMENT OF TRANSPORTATION

Federal Aviation Administration

14 CFR Part 39

[Docket No. FAA-2011-0264; Directorate Identifier 2009-NM-244-AD]

RIN 2120-AA64

Airworthiness Directives; Airbus Model A300 B4-600, B4-600R, and F4-600R Series Airplanes, and Model C4-605R Variant F Airplanes (Collectively Called A300-600 Series Airplanes)

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

[T]he FAA has published SFAR 88 (Special Federal Aviation Regulation 88). * * *

Under this regulation, all holders of type certificates for passenger transport aeroplanes * * * are required to conduct a design review against explosion risks. The replacement of some types of P-clips and improvement of the electrical bonding of the equipment in the fuel tanks [were] are rendered mandatory * * *.

* * * * *

Subsequently, an internal review * * * led * * * to * * * an additional check [for blue coat] of the bonding points in the centre tank. * * *

More recently, another internal review [introduced] additional work [installing bonding points] for aeroplanes under Configuration 03 * * * and additional work [bonding the fuel jettison system—blanking plates] on the wing tanks for aeroplanes under Configuration 07 * * *.

The unsafe condition is damage to wiring in the wing, center, and trim fuel tanks, due to failed P-clips used for retaining the wiring and pipes, which could result in a possible fuel ignition source in the wing, center, or trim fuel tanks. The proposed AD would require actions that are intended to address the unsafe condition described in the MCAI.

DATES: We must receive comments on this proposed AD by May 23, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2011-0264; Directorate Identifier 2009-NM-244-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 18, 2008, we issued AD 2008-03-04, Amendment 39-15353 (73 FR 5731, January 31, 2008). That AD required actions intended to address an unsafe condition on the products listed above.

Since we issued AD 2008-03-04, internal reviews by the manufacturer have shown that additional work is necessary on the center and wing fuel tanks. The European Aviation Safety Agency (EASA), which is the Technical Agent for the Member States of the European Community, has issued EASA Airworthiness Directive 2010-0074, dated April 16, 2010 (referred to after this as “the MCAI”), to correct an unsafe condition for the specified products. The MCAI states:

[T]he FAA has published SFAR 88 (Special Federal Aviation Regulation 88). In their letters referenced 04/00/02/07/01-L296, dated 04 March 2002, and 04/00/02/07/03-L024, dated 03 February 2003, the JAA recommended the application of a similar regulation to the National Aviation Authorities (NAA).

Under this regulation, all holders of type certificates for passenger transport aeroplanes with either a passenger capacity of 30 or more, or a payload capacity of 3,402 kg (7,500 lbs) or more which have received their certification since 01 January 1958, are required to conduct a design review against explosion risks. The replacement of some types of P-clips and improvement of the electrical bonding of the equipment in the fuel tasks are rendered mandatory by this AD.

Initially, EASA AD 2006-0325, which addressed the same unsafe condition, also applied to A300-600 aeroplanes. Airbus subsequently introduced additional work at Revision 1 of SB A300-28-6064 [dated April 3, 2007] applicable to A300-600 aeroplanes. As a result, EASA AD 2006-0325 was revised to remove A300-600 aeroplanes from the applicability, and concurrently EASA AD 2007-0233 was issued, applicable to A300-600 aeroplanes. Unfortunately, the `Applicability' section of EASA AD 2007-0233 was not correctly defined, erroneously deleting one modification in the combination that would exclude aeroplanes from having to comply. Consequently, the AD 2007-0283 was issued, requiring the same actions as AD 2007-0233, which was superseded, but expanded the group of aeroplanes to which AD 2007-0283 applied [FAA AD 2008-03-04 corresponds with EASA AD 2007-0283].

Subsequently, an internal review of Airbus SB A300-28-6064 led the manufacturer to correct the figures of the SB. In particular, an additional check [for blue coat] of the bonding points in the centre tank was introduced in Revision 03 of Airbus SB A300-28-6064 [dated December 15, 2008], prompting EASA to issue AD 2009-0143.

More recently, another internal review of Airbus SB A300-28-6064 again resulted in corrected figures in the SB. Additional work on the center tank [installing bonding points] for aeroplanes under Configuration 03 (as defined in the SB [Service Bulletin A300-28-6064, Revision 04, dated August 24, 2009]) and additional work [bonding the fuel jettison system—blanking plates] on the wing tanks for aeroplanes under Configuration 07 have been introduced in Revision 04 of Airbus SB A300-28-6064 [dated August 24, 2009].

For the reason described above, this new AD retains the requirements of EASA AD 2009-0143, which is superseded, and requires the additional work introduced in Revision 04 of Airbus SB A300-28-6064 [dated August 24, 2009].

The unsafe condition is damage to wiring in the wing, center, and trim fuel tanks, due to failed P-clips used for retaining the wiring and pipes, which could result in a possible fuel ignition source in the wing, center, or trim fuel tanks. The required actions also include checking the electrical bonding points of certain equipment in the center fuel tank for the presence of a blue coat and doing related investigative and corrective actions if necessary. The related investigative action is to measure the electrical resistance between the equipment and structure, if a blue coat is not present. The corrective action is to electrically bond the equipment, if the measured resistance is greater than 10 milliohms. You may obtain further information by examining the MCAI in the AD docket.

We have also revised paragraphs (f)(4) and (f)(5) of AD 2008-03-04 (re-identified as paragraphs (g)(6) and (g)(7) in this NPRM) by replacing the term “service bulletin” with the full service bulletin citation.

Relevant Service Information

Airbus has issued Mandatory Service Bulletins A300-28-6064, Revision 03, dated December 15, 2008; and Revision 04, dated August 24, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 125 products of U.S. registry.

The actions that are required by AD 2008-03-04 and retained in this proposed AD take about 632 work-hours per product, at an average labor rate of $85 per work hour. Required parts cost about $6,870 per product. Based on these figures, the estimated cost of the currently required actions is $60,590 per product.

We estimate that it would take about 9 work-hours per product to comply with the new basic requirements of this proposed AD. The average labor rate is $85 per work-hour. Required parts would cost about $100 per product. Where the service information lists required parts costs that are covered under warranty, we have assumed that there will be no charge for these costs. As we do not control warranty coverage for affected parties, some parties may incur costs higher than estimated here. Based on these figures, we estimate the cost of the proposed AD on U.S. operators to be $108,125, or $865 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15353 (73 FR 5731, January 31, 2008) and adding the following new AD:

Airbus: Docket No. FAA-2011-0264; Directorate Identifier 2009-NM-244-AD.

Comments Due Date

(a) We must receive comments by May 23, 2011.

Affected ADs

(b) This AD supersedes AD 2008-03-04, Amendment 39-15353.

Applicability

(c) This AD applies to the airplanes identified in paragraphs (c)(1) and (c)(2) of this AD.

(1) Airbus Model A300 B4-601, B4-603, B4-620, and B4-622 airplanes (without trim tank), all serial numbers, certificated in any category, except airplanes on which Airbus Modifications 12226, 12365, 12490, and 12308 have been incorporated in production, or Airbus Mandatory Service Bulletin A300-28-6064, Revision 04, dated August 24, 2009; and Airbus Service Bulletin A300-28-6068, dated July 20, 2005; have been performed in service.

(2) Airbus Model A300 B4-605R, B4-622R, F4-605R, and F4-622R airplanes and A300 C4-605R Variant F airplanes (fitted with a trim tank), all serial numbers, certificated in any category, except airplanes on which Airbus Modifications 12226, 12365, 12490, 12308, 12294, and 12476 have been incorporated in production, or on which the service bulletins listed in paragraphs (c)(2)(i), (c)(2)(ii), and (c)(2)(iii) of this AD have been performed in service.

(i) Airbus Mandatory Service Bulletin A300-28-6064, Revision 03, dated December 15, 2008.

(ii) Airbus Service Bulletin A300-28-6068, dated July 20, 2005.

(iii) Airbus Service Bulletin A300-28-6077, dated July 25, 2005; or A300-28-6077, Revision 01, dated October 26, 2006.

Subject

(d) Air Transport Association (ATA) of America Code 28: Fuel.

Reason

(e) The mandatory continuing airworthiness information (MCAI) states:

[T]he FAA has published SFAR 88 (Special Federal Aviation Regulation 88). * * *

Under this regulation, all holders of type certificates for passenger transport aeroplanes * * * are required to conduct a design review against explosion risks. The replacement of some types of P-clips and improvement of the electrical bonding of the equipment in the fuel tanks [were] are rendered mandatory * * *.

* * * * *

Subsequently, an internal review * * * led * * * to * * * an additional check [for blue coat] of the bonding points in the centre tank. * * *

More recently, another internal review [introduced] additional work [installing bonding points] for aeroplanes under Configuration 03 * * * and additional work [bonding the fuel jettison system—blanking plates] on the wing tanks for aeroplanes under Configuration 07 * * *.

The unsafe condition is damage to wiring in the wing, center, and trim fuel tanks, due to failed P-clips used for retaining the wiring and pipes, which could result in a possible fuel ignition source in the wing, center, or trim fuel tanks.

Compliance

(f) You are responsible for having the actions required by this AD performed within the compliance times specified, unless the actions have already been done.

Restatement of Requirements of AD 2008-03-04 With Revised Service Information

Actions and Compliance

(g) For airplanes identified in paragraphs (g)(1) and (g)(2) of this AD: Within 40 months after March 6, 2008 (the effective date of AD 2008-03-04), unless already done, do the applicable actions required by paragraphs (g)(3), (g)(4), and (g)(5) of this AD.

(1) Airbus Model A300 B4-600 series airplanes (without trim tank), all serial numbers, except airplanes on which Airbus Modifications 12226, 12365, 12490, and 12308 have been incorporated in production, or Airbus Service Bulletins A300-28-6064, Revision 01, dated April 3, 2007; and A300-28-6068, dated July 20, 2005; have been performed in service.

(2) Airbus Model A300 B4-600R, A300 C4-600R, and A300 F4-600R series airplanes (fitted with a trim tank), all serial numbers, except airplanes on which Airbus Modifications 12226, 12365, 12490, 12308, 12294, and 12476 have been incorporated in production, or on which the service bulletins listed in paragraphs (g)(2)(i), (g)(2)(ii), and (g)(2)(iii) of this AD have been performed in service.

(i) Airbus Service Bulletin A300-28-6064, Revision 01, dated April 3, 2007.

(ii) Airbus Service Bulletin A300-28-6068, dated July 20, 2005.

(iii) Airbus Service Bulletin A300-28-6077, dated July 25, 2005; or A300-28-6077, Revision 01, dated October 26, 2006.

(3) Remove NSA5516-XXND or NSA5516-XXNJ type P-clips, used in the wing and center fuel tanks to retain wiring and pipes, and replace them by NSA5516-XXNF type P-clips in accordance with the instructions of Airbus Service Bulletin A300-28-6068, dated July 20, 2005.

(4) Check the electrical bonding points in the center tank and do all applicable related investigative and corrective actions, and install additional bonding leads and electrical bonding points in the wing and center fuel tanks in accordance with the instructions of Airbus Service Bulletin A300-28-6064, Revision 01, dated April 3, 2007; Airbus Mandatory Service Bulletin A300-28-6064, Revision 02, dated March 10, 2008; Airbus Mandatory Service Bulletin A300-28-6064, Revision 03, dated December 15, 2008; or Airbus Mandatory Service Bulletin A300-28-6064, Revision 04, dated August 24, 2009. Do all applicable related investigative and corrective actions before further flight. As of the effective date of this AD, only use Airbus Mandatory Service Bulletin A300-28-6064, Revision 04, dated August 24, 2009.

(5) For airplanes fitted with a trim tank, in addition to the actions defined in paragraphs (g)(3) and (g)(4) of this AD, install bonding leads and electrical bonding points in the trim tanks, in accordance with the instructions of Airbus Service Bulletin A300-28-6077, Revision 01, dated October 26, 2006.

(6) Actions done before March 6, 2008, in accordance with Airbus Service Bulletin A300-28-6064, dated July 28, 2005, for aircraft under configuration 05, as defined Airbus Service Bulletin A300-28-6064, dated July 28, 2005, are considered acceptable for compliance with the requirements of paragraph (g)(4) of this AD.

(7) Actions done before March 6, 2008, in accordance with Airbus Service Bulletin A300-28-6077, dated July 25, 2005, for aircraft under configuration 05, as defined in Airbus Service Bulletin A300-28-6077, dated July 25, 2005, are considered acceptable for compliance with the requirements of paragraph (g)(5) of this AD.

New Requirments of This AD

Additional Actions

(h) Within 8 months after the effective date of this AD, do the applicable actions required by paragraphs (h)(1), (h)(2), and (h)(3) of this AD.

(1) For airplanes that have been modified before the effective date of this AD in accordance with the Accomplishment Instructions of Airbus Service Bulletin A300-28-6064, dated July 28, 2005; Revision 01, dated April 3, 2007; or Airbus Mandatory Service Bulletin A300-28-6064, Revision 02, dated March 10, 2008: Do the additional work on the center tank specified in Airbus Mandatory Service Bulletin A300-28-6064, Revision 03, dated December 15, 2008, (i.e., a check for blue coat at additional bonding points and all applicable related investigative and corrective actions), in accordance with the Accomplishment Instructions of Airbus Mandatory Service Bulletin A300-28-6064, Revision 03, dated December 15, 2008; or Revision 04, dated August 24, 2009. Do all applicable related investigative and corrective actions before further flight.

(2) For configuration 03 airplanes, as defined in Airbus Mandatory Service Bulletin A300-28-6064, Revision 04, dated August 24, 2009, that have been modified before the effective date of this AD in accordance with the Accomplishment Instructions of Airbus Service Bulletin A300-28-6064, Revision 01, dated April 3, 2007; or Airbus Mandatory Service Bulletin A300-28-6064, Revision 02, dated March 10, 2008, or Revision 03, dated December 15, 2008: Do the additional work on the center tank (i.e., install bonding points), in accordance with the Accomplishment Instructions of Airbus Mandatory Service Bulletin A300-28-6064, Revision 04, dated August 24, 2009.

(3) For configuration 07 airplanes, as defined in Airbus Mandatory Service Bulletin A300-28-6064, Revision 04, dated August 24, 2009, that have been modified before the effective date of this AD in accordance with the Accomplishment Instructions of Airbus Service Bulletin A300-28-6064, dated July 28, 2005; Revision 01, dated April 3, 2007; or Airbus Mandatory Service Bulletin A300-28-6064, Revision 02, dated March 10, 2008, or Revision 03, dated December 15, 2008: Do the additional work on the wing tanks (i.e., bond the fuel jettison system—blanking plates), in accordance with the Accomplishment Instructions of Airbus Mandatory Service Bulletin A300-28-6064, Revision 04, dated August 24, 2009.

FAA AD Differences

Note 1: This AD differs from the MCAI and/or service information as follows: No differences.

Other FAA AD Provisions

(i) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC, notify your appropriate principal inspector, or lacking a principal inspector, the manager of the local flight standards district office/certificate holding district office. The AMOC approval letter must specifically reference this AD. AMOCs approved previously in accordance with AD 2008-03-04 are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI EASA Airworthiness Directive 2010-0074, dated April 16, 2010, and the service information listed in Table 1 of this AD, for related information.

Table 1—Service Information
Airbus service information | Revision level | Date
Airbus Mandatory Service Bulletin A300-28-6064 | 03 | December 15, 2008.
Airbus Mandatory Service Bulletin A300-28-6064 | 04 | August 24, 2009.
Airbus Service Bulletin A300-28-6068 | Original | July 20, 2005.
Airbus Service Bulletin A300-28-6077 | 01 | October 26, 2006.

Issued in Renton, Washington, on March 23, 2011.
Kalene C. Yanamura,
Acting Manager, Transport Airplane Directorate, Aircraft Certification Service.

[FR Doc. 2011-8198 Filed 4-5-11; 8:45 am]

BILLING CODE 4910-13-P